Title 3—

The President

Proclamation 7449 of June 8, 2001

To Implement the Agreement Between the United States of America and the Socialist Republic of Vietnam on Trade Relations

By the President of the United States of America

A Proclamation

1. Pursuant to the authority vested in the President by the Constitution and the laws of the United States, and acting through duly empowered representatives, the United States entered into negotiations with representatives of the Socialist Republic of Vietnam (“Vietnam”) to conclude an agreement on trade relations between the United States and Vietnam.

2. These negotiations were conducted in accordance with the requirements of the Trade Act of 1974, as amended (19 U.S.C. 2431 et seq.) (the “Trade Act”).

3. As a result of these negotiations, an “Agreement Between the United States of America and the Socialist Republic of Vietnam on Trade Relations” (the “Agreement”), including annexes and an exchange of letters which form an integral part of the Agreement, the foregoing in English and Vietnamese, was signed on July 13, 2000, by duly empowered representatives of the two Governments, and is set forth as an annex to this proclamation.

4. The Agreement conforms to the requirements relating to bilateral commercial agreements set forth in section 405(b) of the Trade Act (19 U.S.C. 2435(b)).

5. Chapter VII, Article 8:1 of the Agreement provides that the Agreement shall enter into force on the date of exchange of written notices of acceptance by the two Governments.

6. Section 405(c) of the Trade Act (19 U.S.C. 2435(c)) provides that a bilateral commercial agreement providing nondiscriminatory treatment to the products of a country denied such treatment prior to the date of enactment of the Trade Act, and a proclamation implementing such agreement, shall take effect only if a joint resolution described in section 151(b)(3) of the Trade Act (19 U.S.C. 2191(b)(3)) that approves of the Agreement is enacted into law.

7. Section 604 of the Trade Act (19 U.S.C. 2483) authorizes the President to embody in the Harmonized Tariff Schedule of the United States (HTS) the substance of the provisions of that Act, of other acts affecting import treatment, and actions taken thereunder.

NOW, THEREFORE, I, GEORGE W. BUSH, President of the United States of America, acting under authority vested in me by the Constitution and the laws of the United States, including, but not limited to, sections 404, 405, and 604 of the Trade Act, do proclaim that:

(1)

This proclamation shall become effective, the Agreement shall enter into force, and nondiscriminatory treatment shall be extended to the products of Vietnam, in accordance with the terms of the Agreement, and after Congress approves the Agreement by joint resolution, on the date of exchange of written notices of acceptance in accordance with Chapter VII, Article 8:1 of the Agreement. The United States Trade Representative shall publish notice of the effective date in the Federal Register.

(2)

Effective with respect to articles entered, or withdrawn from warehouse for consumption, on or after the date provided in paragraph (1) of this proclamation, general note 3(b) to the HTS, enumerating those countries whose products are subject to duty at rates set forth in Rates of Duty Column 2 of the tariff schedule, is modified by striking out “Socialist Republic of Vietnam.”

IN WITNESS WHEREOF, I have hereunto set my hand this eighth day of June, in the year of our Lord two thousand one, and of the Independence of the United States of America the two hundred and twenty-fifth.

B

Billing Code 3195-01-P

Filed 6-11-01; 8:45 am]

[FR Doc. 01-14938]

Billing code 3190-01-C